DEPARTMENT OF STATE

[Public Notice 4688]

Bureau of Educational and Cultural Affairs Request for Grant Proposals (RFGP): Tibet Professional, Educational and Cultural Exchange Projects

SUMMARY: The Office of Citizen Exchanges welcomes proposals in an open competition for Tibet Professional, Educational and Cultural Exchange Projects that focus on the themes of Cultural Preservation and Economic Self-sufficiency. Approximately $500,000 is available to support projects under this competition in Fiscal Year 2004.

Public and private non-profit organizations meeting the provisions described in Internal Revenue Code section 26 U.S.C. 501(c)(3) may submit proposals to promote understanding between the people of the United States and Tibetan people living in Tibetan communities in China through professional, educational and cultural projects.

Applicants should ensure that their proposals comply with the Tibet Policy Act of 2002, particularly that their projects promote in all stages the active participation of Tibetans (see section 611 of the Foreign Relations Authorization Act, 2003 (Pub. L. 107-228), section 616(d), Tibet Project Principles).

Interested applicants should read this complete Federal Register announcement before addressing inquiries to the Office of Citizen Exchanges but are encouraged to contact the Program Manager to discuss their ideas before submitting a full proposal. Once the RFGP deadline has passed, Bureau staff may not discuss this competition with applicants until the proposal review process has been completed.

Important Note: This Request for Grant Proposals contains language in the “Shipment and Deadline for Proposals” section that is significantly different from that used in the past. Please pay special attention to the procedural changes outlined.

Announcement Name and Number

All correspondence with the Bureau concerning this RFGP should reference the “Open Competition for Tibet Professional, Educational and Cultural Exchange Projects” and reference number ECA/PE/C/WHAEAP-04-54. Please refer to title and number in all correspondence or telephone calls to the Office of Citizen Exchanges.

FOR FURTHER INFORMATION CONTACT: Interested organizations and institutions may contact the Office of Citizen Exchanges, Room 216, SA-44, U.S. Department of State, 301 4th Street, SW., Washington, DC 20547, telephone number 202/260-5485, fax number 202/260-0440, or mcnealdb@state.gov to request a Solicitation Package. The Solicitation Package contains detailed award criteria, required application forms, specific budget instructions, and standard guidelines for proposal preparation. Please specify Program Manager Douglas McNeal on all other inquiries and correspondence.

To Download a Solicitation Package via Internet

The entire Solicitation Package also may be downloaded from the Bureau's Web site at http://exchanges.state.gov/education/RFGPs. Please read all information before downloading.

Program Information

Overview

The Office of Citizen Exchanges welcomes proposals that focus on the themes of Cultural Preservation and Economic Self-sufficiency under this competition for FY-2004 Tibet Professional, Educational and Cultural Exchange Projects. Approximately $500,000 is expected to be available for such projects from the Bureau's FY-2004 appropriation. Grant awards will not exceed $150,000; grants awarded to organizations with less than four years' experience in conducting international exchange programs will be limited to $60,000.

Cultural Preservation

Projects under this theme should aim to assist Tibetans in preserving their cultural heritage through activities designed to reduce the pillage of irreplaceable cultural heritage and to create opportunities to develop long-term strategies for preserving cultural property through training and conservation, museum development, and public education. Projects might include supporting the preservation of cultural sites; objects in a site, museum or similar institution; or forms of traditional cultural expression. The proposals may encompass topics such as museum needs, historic buildings, collections, archaeological sites, rare manuscripts, language, or traditional arts, crafts, or music.

Economic Self-Sufficiency

Vocational Education

Proposals are sought which emphasize vocational training or administration and development of vocational schools targeted towards the practical needs of Tibetan communities. Discussion of how to integrate education with economic planning, how to diversify revenue sources, and how to recruit, train and retain strong faculty would all contribute towards increased emphasis on vocational education and its importance to both Americans and Tibetans in a modern and changing economy. Vocational education may include practical training of entrepreneurs, development of Tibetan-language educational materials (such as Tibetan-English teaching guides or Tibetan-language public health education materials), or development of distance-learning technology solutions for remote rural schools. English-language training projects that are held in China are preferred over ones that would bring Tibetans to the U.S. for training.

Developing Entrepreneurship

Projects under this theme may focus on the skills Tibetans, many of whom come from rural backgrounds with rudimentary economies, need to function effectively in a modern economy (e.g., finance, accounting, and language skills). Projects will be favored that explore ways in which both the government and the private sector can help promote sustainable entrepreneurship, including access to credit, ecologically conscious tourism policies and investment, or English language training for trade or tourism purposes. Programs that train budding entrepreneurs and develop micro-finance programs for them are welcome.

Sustainable Growth and Eco-Tourism

Exchanges funded under this theme would help American and Tibetan conservationists, tourism planners, and economic planners share their experience in managing tourism resources and development projects, particularly in ecologically fragile areas, and would contribute to better understanding of conservation and concepts essential to responsible economic growth. Local community projects are invited in fields such as eco-tourism, renewable energy, or poverty alleviation projects, including farm technology, animal husbandry, or agricultural marketing.

Guidelines

The Office seeks proposals that train and assist Tibetans living in Tibetan communities in China by providing professional experience and exposure to American life and culture through internships, workshops and other learning and sharing experiences hosted by local U.S. institutions. The experiences also will provide Americans the opportunity to learn about Tibetan culture and the social and economic challenges Tibetans face today. These two-way exchanges should not be simply academic in nature but should provide practical, hands-on experience in U.S. public or private sector settings that may be adapted to an individual's institution upon return home. Proposals may combine elements of professional enrichment, job shadowing and internships appropriate to the language ability and interests of the participants.

General Program Guidelines

Applicants must identify the local organizations and individuals in the counterpart country with whom they are proposing to collaborate and describe in detail previous cooperative programming or contacts. Specific information about the counterpart organizations' activities and accomplishments is required and must be included in the section on Institutional Capacity. All proposals must contain letters of support tailored to the project being proposed from all foreign-country partner organizations or will be declared ineligible.

Exchanges and training programs supported by institutional grants from the Bureau should operate at two levels: they should enhance institutional partnerships, and they should offer practical information and experience to individuals and groups to assist them with their professional responsibilities. Strong proposals usually have the following characteristics:

—A proven track record of working in the proposed issue area;

—An experienced staff with language facility and a commitment by the staff to monitor projects locally to improve accountability;

—A clear, convincing plan showing how permanent results will be accomplished as a result of the activity funded by the grant; and a follow-on plan beyond the scope of the Bureau grant.

Proposal narratives must demonstrate an organization's willingness to consult closely with the Public Affairs Section and other officers at the U.S. Embassy in Beijing and at the U.S. Consulate General in Chengdu. Proposal narratives must commit to invite representatives of the Embassy or Consulate to participate in all program sessions and site visits as well as confirm that materials developed for the project will all acknowledge USG funding for the program. Please note that this will be a formal requirement in final grant awards.

Suggested Program Designs

Bureau-supported exchanges may include internships; study tours; short-term, non-technical experiential learning; extended and intensive workshops; and seminars convened in the United States or overseas. Examples of possible program activities include:

1. A U.S.-based program that includes: orientation to program purposes and to U.S. society, study tour and site visits, professional internships or placements, interaction and dialogue, hands-on training, professional development, and action plan development.

2. Capacity-building or training-of-trainer (ToT) workshops to help participants to identify priorities, create work plans, strengthen professional and volunteer skills, share their experience with committed people within each country, and become active in a practical and valuable way.

3. Seed or small grants to indigenous non-profit organizations to support community-based educational projects that build upon exchange activities and that address issues of local concern. Proposals may include a component for a Seed or Small Grants Competition (often referred to as ‘sub-grants’ or ‘secondary grants’). This requires a detailed plan for recruitment and advertising, description of the proposal review and award mechanism, a plan for how the grantee would monitor and evaluate small-grant activity, and a proposed sum for an average grant. The small grants should be directly linked to exchange activities. Small or seed grants may not be used for micro-credit or re-lending. Small or seed grants may not exceed 10% of the total value of the grant sought from ECA.

4. Site visits by U.S. facilitators or experts to monitor projects in the region and to provide additional training and consultation as needed.

5. Content-based Internet training or cyber-training to encourage citizen participation in workshops, fora, chats, or discussions via the Internet that will stimulate communication and information sharing among key opinion leaders on priority topics. Proposals that include Internet utilization must reflect knowledge of the opportunities and obstacles that exist for use of information technology in the target country or countries, and, if needed, provide hardware, software and servers, preferably as a form of cost sharing.

Selection of Participants

All grant proposals should clearly describe the type of persons who will participate in the program as well as the process by which participants will be selected. It is recommended that for programs including U.S. internships, grant applicants submit letters tentatively committing host institutions to support the internships. In the selection of Tibetan participants, the Department, the U.S. Embassy in Beijing and the U.S. Consulate General in Chengdu retain the right to review all participant nominations and to accept or reject participants recommended by grantee institutions. The grantee institution will also provide to the Office of Citizen Exchanges for information purposes the names of American participants and brief (two-page) biographical data on each. Priority in two-way exchange proposals will be given to foreign participants who have not previously traveled to the United States.

Diversity, Freedom and Democracy Guidelines

Pursuant to the Bureau's authorizing legislation, programs must maintain a non-political character and should be balanced and representative of the diversity of American political, social, and cultural life. “Diversity” should be interpreted in the broadest sense and encompass differences including, but not limited to ethnicity, race, sex, religion, geographic location, socio-economic status, and disabilities. Applicants are strongly encouraged to adhere to the advancement of this principle both in program administration and in program content. Please refer to the ‘Support of Diversity’ section of the review criteria (below) for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above not have inappropriate influence in the selection process. Proposals should reflect advancement of these goals in their program content, to the extent deemed feasible.

Adherence to All Regulations Governing the J Visa

The Office of Citizen Exchanges of the Bureau of Educational and Cultural Affairs is the official program sponsor of the exchange program covered by this grant invitation, and an employee of the Bureau will be th “Responsible Officer” for the program under the terms of 22 CFR part 62, which covers the administration of the Exchange Visitor Program (J-visa program). Under the terms of 22 CFR part 62, organizations receiving grants under this program will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau fully to comply with 22 CFR part 62 et seq. The Bureau of Educational and Cultural Affairs places great emphasis on the secure and proper administration of Exchange Visitor (J-visa) Programs and adherence by grantee program organizations and program participants to all regulations governing the J-visa program status. Therefore, proposals should state explicitly in writing that the applicant is prepared to assist the Bureau in meeting all requirements governing the administration of Exchange Visitor Programs as set forth in 22 CFR part 62. If the applicant has experience as a designated Exchange Visitor Program Sponsor, the application should discuss the record of compliance with 22 CFR part 62 et seq., including the oversight of Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, Fax: (202) 401-9809.

New OMB Requirement

An OMB policy directive published in the Federal Register on June 27, 2003, requires that all organizations applying for Federal grants or cooperative agreements must provide a Dun and Bradstreet (D&B) Data Universal Numbering System (DUNS) number when applying for any Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

The Solicitation Package offers specifics about the program as well as certain requirements that accompany Federal assistance awards. Compliance with those requirements is mandatory. Complete applications are essential to facilitating the review and award process. Please refer to the Technical Format and Instructions page in the Proposal Submission Instructions.

Shipment and Deadline for Proposals

Your complete proposal package (the original proposal, ten copies and one extra copy of the application cover sheet) must be postmarked by Thursday, May 27, 2004, and sent to: U.S. Department of State, SA-44, Bureau of Educational and Cultural Affairs, Reference: ECA/PE/C/WHA/EAP-04-54, Program Management, ECA/EX/PM, Room 534, 301 4th St., SW., Washington, DC 20547-0002.

Important Note: The deadline for this submission is Thursday, May 27, 2004. In light of recent events and heightened security measures, proposal submissions must be sent via a nationally recognized overnight delivery service (i.e., Airborne Express, DHL, Federal Express, UPS, or U.S. Postal Service Express Overnight Mail, etc.) and be shipped no later than May 27. The delivery services used by applicants must have in-place, centralized shipping identification and tracking systems that may be accessed via the Internet and delivery people who are identifiable by commonly recognized uniforms and delivery vehicles. It is each applicant's responsibility to ensure that each package is marked with a legible tracking number and to monitor and confirm delivery via the Internet. Neither faxed documents nor documents postmarked after the above deadline will be accepted.

Please also submit the Executive Summary, Proposal Narrative, and Budget sections of the proposal as e-mail attachments in Microsoft Word and Excel to the program manager at mcnealdb@state.gov. The Bureau will transmit these files electronically to the Public Affairs sections at the U.S. Embassy in Beijing and the Consulate General in Chengdu for their review, with the goal of reducing the time it takes to get embassy comments for the Bureau's review process.

Budget Guidelines

Applicants must submit a comprehensive budget for the entire program, including a summary budget as well as breakdowns reflecting both administrative and program costs. Applicants may provide separate sub-budgets for each program component, phase, location or activity. Grant awards will not exceed $150,000; grants awarded to organizations with less than four years' experience in conducting international exchange programs will be limited to $60,000.

Since Bureau grant assistance is to constitute only a portion of total project funding, proposals should list and provide evidence of other anticipated sources of financial and in-kind support. To be eligible for consideration under this competition, proposals must provide a minimum of 30 percent cost sharing of the amount of grant funds sought from ECA, although proposals with higher cost-sharing levels are welcome.

Example: A proposal requests $125,000 in grant funds from ECA, for a project with a total budget of $500,000. The required minimum cost sharing offered would be $37,500. In this case, the cost sharing far exceeds the minimum, since actual cost sharing is $375,000.

When cost sharing is offered, it is understood and agreed that the applicant must provide the minimum amount of cost sharing as stipulated in this RFGP and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

The following project costs are eligible for consideration for funding:

1. Travel costs. International and domestic airfare, visas, transit costs, and ground transportation costs. Please note that all air travel must be in compliance with the Fly America Act. There is no charge for J-1 visas for participants in Bureau-sponsored programs.

2. Per Diem. For the U.S. program, organizations have the option of using a flat $160/day for program participants or the published U.S. Federal per diem rates for individual American cities. For activities outside the U.S., the published Federal per diem rates must be used. Note: U.S. escorting staff must use the published Federal per diem rates, not the flat rate. Per diem rates may be accessed at

http:/www.policyworks.gov/.

3. Interpreters. If needed, interpreters for the U.S. program are available through the Language Services Division of the U.S. Department of State. Typically, a pair of simultaneous interpreters is provided for every four visitors who need interpretation. Bureau grants do not pay for foreign interpreters to accompany delegations from their home country. Grant proposal budgets should contain a flat $160/day per diem for each Department of State interpreter, as well as home-program-home air transportation of $400 per interpreter plus any U.S. travel expenses during the program. Salary expenses are covered centrally and should not be part of an applicant's proposed budget. Locally arranged interpreters with adequate skills and experience may be used by the grantee in lieu of State Department interpreters, with the same 1:4 ratio of interpreters to participants. However, the cost of hiring such interpreters may not exceed the rate for U.S. Department of State interpreters.

4. Book and cultural allowance. Foreign participants are entitled to and escorts are reimbursed for a one-time cultural allowance of $150 per person, plus a participant book allowance of $50. U.S. program staff members are not eligible to receive these benefits.

5. Consultants. Consultants may be used to provide specialized expertise, design or manage growth projects, or to make presentations. Honoraria generally do not exceed $250 per day. Subcontracting organizations may also be used, in which case the written agreement between the prospective grantee and subcontractor should be included in the proposal. Subcontracts should be itemized in the budget.

6. Room rental. Room rental may not exceed $250 per day.

7. Materials development. Proposals may contain costs to purchase, develop, and translate materials for participants.

8. Equipment. Proposals may contain limited costs to purchase equipment crucial to the success of the program, such as computers, fax machines and copy machines. However, equipment costs must be kept to a minimum, and costs for furniture are not allowed.

9. Working Meal. The grant budget may provide for only one working meal during the program. Per-capita costs may not exceed $5-8 for a lunch and $14-20 for a dinner, excluding room rental. The number of invited guests may not exceed participants by more than a factor of two-to-one. Interpreters must be included as participants.

10. Return travel allowance. A return travel allowance of $70 for each foreign participant may be included in the budget. This may be used for incidental expenses incurred during international travel.

11. Health Insurance. Foreign participants will be covered under the terms of a U.S. Department of State-sponsored health insurance policy. The premium is paid by the U.S. Department of State directly to the insurance company. Applicants are permitted to include in the budget costs for travel insurance for U.S. participants.

12. Administrative Costs. Costs necessary for the effective administration of the program may include salaries for grant organization employees, benefits, and other direct or indirect costs per detailed instructions in the Solicitation Package.

Please refer to the Solicitation Package for complete budget guidelines and formatting instructions.

Review Process

The program office, the Public Diplomacy section and other elements at the U.S. Embassy in Beijing, and officials at the U.S. Consulate in Chengdu will review all eligible proposals. Eligible proposals, which must comply with Federal and Bureau regulations and guidelines, will be submitted to Bureau advisory panels for review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below.

1. Institutional Capacity/Record/Ability: Proposed personnel and institutional resources should be adequate and appropriate to achieve the program or project's goals. For technical projects, foreign experts and their local partners will be required to have the necessary education, training and experience for the work to be undertaken, in addition to language skills where applicable. Proposals should demonstrate an institutional record of successful development of exchange programs, including responsible fiscal management and full compliance with all reporting requirements for past Bureau grants as determined by Bureau Grant Staff. The Bureau will consider the past performance of prior recipients and the demonstrated potential of new applicants. Applicants should have a multiyear track record of successful work in Tibetan regions of China or other remote parts of Asia.

2. Program planning to achieve program objectives: Proposals should clearly demonstrate how the institution plans to achieve the program's objectives. Objectives should be reasonable, feasible, and flexible. The proposal should contain a detailed agenda and relevant work plan that demonstrates substantive undertakings and logistical capacity. Agenda and plan should adhere to the program overview and guidelines described above.

3. Multiplier effect/impact: Proposed programs should strengthen long-term mutual understanding, including maximum sharing of information and establishment of long-term institutional and individual linkages.

4. Follow-on Activities: Proposals should provide a plan for continued follow-on activity to ensure that Bureau-supported programs not be isolated events.

5. Support of Diversity: Proposals should demonstrate substantive support of the Bureau's policy on diversity. Achievable and relevant features should be cited in both program administration (selection of participants, program venue and program evaluation) and program content (orientation and wrap-up sessions, program meetings, resource materials and follow-up activities).

6. Monitoring and Project Evaluation Plan: Proposals should provide a detailed plan for monitoring and evaluating the program. The evaluation plan should identify anticipated outcomes and performance requirements clearly related to program objectives and activities and include procedures for ongoing monitoring and corrective action when necessary. The identification of best practices relating to project administration is also encouraged, as is the discussion of unforeseen difficulties.

7. Cost-effectiveness/Cost-sharing: The overhead and administrative components of the proposal, including salaries and honoraria, should be kept as low as possible. All other items should be necessary and appropriate. Proposals must provide 30% cost sharing (of the amount of grant funds requested from ECA) through other private sector support as well as institutional direct funding contributions.

Authority

Overall grant-making authority for this program is contained in the Mutual Educational and Cultural Exchange Act of 1961, Public Law 87-256, as amended, also known as the Fulbright-Hays Act. The purpose of the Act is “to enable the Government of the United States to increase mutual understanding between the people of the United States and the people of other countries . . . ; to strengthen the ties which unite us with other nations by demonstrating the educational and cultural interests, developments, and achievements of the people of the United States and other nations * * * and thus to assist in the development of friendly, sympathetic and peaceful relations between the United States and the other countries of the world.”

Notice

The terms and conditions published in this RFGP are binding and may not be modified by any Bureau representative. Explanatory information provided by the Bureau that contradicts published language will not be binding. Issuance of this RFGP does not constitute a commitment on the part of the Government. The Bureau reserves the right to reduce, revise, or increase proposal budgets in accordance with the needs of the program and the availability of funds. Awards made will be subject to periodic reporting and evaluation requirements.

Notification

Final awards cannot be made until funds have been appropriated by Congress, allocated, and committed through internal Bureau procedures.

Dated: April 7, 2004.
C. Miller Crouch,
Principal Deputy Assistant Secretary, Bureau of Educational and Cultural Affairs, Department of State.

[FR Doc. 04-8467 Filed 4-14-04; 8:45 am]

BILLING CODE 4710-05-P